DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
California: Solano (FEMA Docket No.: B-2407) | Unincorporated areas of Solano County (23-09-0577P). | Bill Emlen, Solano County Administrator, 675 Texas Street, Suite 6500, Fairfield, CA 94533. | Solano County Department of Resource Management, Building and Safety Division, 675 Texas Street, Suite 6500, Fairfield, CA 94533. | Apr. 18, 2024 | 060631
Colorado:
Boulder (FEMA Docket No.: B-2411) | Unincorporated areas of Boulder County (22-08-0605P). | Claire Levy, Chair, Boulder County Board of Commissioners, P.O. Box 471, Boulder, CO 80306. | Boulder County Department of Public Works, 1739 Broadway, Suite 300, Boulder, CO 80306. | Apr. 29, 2024 | 080023
Jefferson (FEMA Docket No.: B-2411) | Unincorporated areas of Jefferson County (23-08-0153P). | Andy Kerr, Chair, Jefferson County Board of Commissioners, 100 Jefferson County Parkway, Suite 5550, Golden, CO 80419. | Jefferson County Planning and Zoning Division, 100 Jefferson County Parkway, Suite 3550, Golden, CO 80419. | Apr. 19, 2024 | 080087
Larimer (FEMA Docket No.: B-2424) | Town of Timnath (23-08-0412P). | The Honorable Mark Soukup, Mayor, Town of Timnath, 4750 Signal Tree Drive, Timnath, CO 80547. | Town Hall, 4100 Main Street, Timnath, CO 80547. | Apr. 25, 2024 | 080005
Larimer (FEMA Docket No.: B-2424) | Unincorporated areas of Larimer County (23-08-0412P). | Jody Shadduck-McNally, Chair, Larimer County Board of Commissioners, 200 West Oak Street, Fort Collins, CO 80521. | Larimer County Courthouse, 200 West Oak Street, Suite 3000, Fort Collins, CO 80521. | Apr. 25, 2024 | 080101
Delaware: New Castle (FEMA Docket No.: B-2411) | Unincorporated areas of New Castle County (23-03-0281P). | Matthew Meyer, New Castle County Executive, 87 Reads Way, New Castle, DE 19720. | New Castle County Land Use Department, 87 Reads Way, New Castle, DE 19720. | Apr. 18, 2024 | 105085
Florida:
Lake (FEMA Docket No.: B-2418) | City of Mascotte (24-04-0461P). | The Honorable Steven Sheffield, Mayor, City of Mascotte, 100 East Myers Boulevard, Mascotte, FL 34753. | City Hall, 100 East Myers Boulevard, Mascotte, FL 34753. | May 3, 2024 | 120591
Lake (FEMA Docket No.: B-2418) | Unincorporated areas of Lake County (24-04-0461P). | Jennifer Barker, Lake County Manager, 315 West Main Street, Tavares, FL 32778. | Lake County Public Works Department, 323 North Sinclair Avenue, Tavares, FL 32778. | May 3, 2024 | 120421
Manatee (FEMA Docket No.: B-2411) | Unincorporated areas of Manatee County (23-04-0090P). | Charlie Bishop, Manatee County Administrator, 1112 Manatee Avenue West, Bradenton, FL 34205. | Manatee County Administration Building, 1112 Manatee Avenue West, Bradenton, FL 34205. | Apr. 26, 2024 | 120153
Marion (FEMA Docket No.: B-2411) | Unincorporated areas of Marion County (23-04-5915P). | Michelle Stone, Chair, Marion County Board of Commissioners, 601 Southeast 25th Avenue, Ocala, FL 34471. | Marion County Administration Building, 601 Southeast 25th Avenue, Ocala, FL 34471. | Apr. 26, 2024 | 120160
Miami-Dade (FEMA Docket No.: B-2413) | City of North Miami (23-04-3494P). | Rasha Cameau, City of North Miami Manager, 776 Northeast 125th Street, North Miami, FL 33161. | Building Department, 12340 Northeast 8th Avenue, North Miami, FL 33161. | Apr. 29, 2024 | 120655
Miami-Dade (FEMA Docket No.: B-2401) | Town of Surfside (23-04-5056P). | The Honorable Shlomo Danzinger, Mayor, Town of Surfside, 9293 Harding Avenue, Surfside, FL 33154. | Town Hall, 9293 Harding Avenue, Surfside, FL 33154. | Apr. 18, 2024 | 120659
Osceola (FEMA Docket No.: B-2411) | City of St. Cloud (23-04-3875P). | Veronica Miller, City of St. Cloud Manager, 1300 9th Street, St. Cloud, FL 34769. | City Hall, 1300 9th Street, St. Cloud, FL 34769. | Apr. 26, 2024 | 120191
Georgia:
Fulton (FEMA Docket No.: B-2424) | City of Hapeville (23-04-3666P). | The Honorable Alan Hallman, Mayor, City of Hapeville, 3468 North Fulton Avenue, Hapeville, GA 30354. | City Hall, 3474 North Fulton Avenue, Hapeville, GA 30354. | May 3, 2024 | 130502
Gwinnett (FEMA Docket No.: B-2418) | City of Grayson (23-04-5076P). | The Honorable Allison Wilkerson, Mayor, City of Grayson, 475 Grayson Parkway, Grayson, GA 30017. | City Hall, 475 Grayson Parkway, Grayson, GA 30017. | May 3, 2024 | 130325
Nevada:
Douglas (FEMA Docket No.: B-2418) | Unincorporated areas of Douglas County (23-09-0124P). | Mark Gardner, Chair, Douglas County Board of Commissioners, 1594 Esmeralda Avenue, Minden, NV 89423. | Douglas County Administration, 1594 Esmeralda Avenue, Minden, NV 89423. | May 6, 2024 | 320008
Independent City (FEMA Docket No.: B-2418) | City of Carson City (23-09-0124P). | The Honorable Lori Bagwell, Mayor, City of Carson City, 201 North Carson Street, Carson City, NV 89701. | City Hall, 201 North Carson Street, Carson City, NV 89701. | May 6, 2024 | 320001
Clackamas (FEMA Docket No.: B-2418) | City of Canby (23-10-0589P). | The Honorable Brian Hodson, Mayor, City of Canby, P.O. Box 930, Canby, OR 97013. | Public Works Department, 1470 Northeast Territorial Road, Canby, OR 97013. | May 2, 2024 | 410014
Clackamas (FEMA Docket No.: B-2418) | Unincorporated areas of Clackamas County (23-10-0589P). | Gary Schmidt, Clackamas County Administrator, 2051 Kaen Road, Oregon City, OR 97045. | Clackamas County Planning and Zoning Division, 150 Beavercreek Road, Oregon City, OR 97045. | May 2, 2024 | 415588
South Dakota:
Minnehaha (FEMA Docket No.: B-2418) | City of Sioux Falls (23-08-0268P). | The Honorable Paul TenHaken, Mayor, City of Sioux Falls, 224 West 9th Street, Sioux Falls, SD 57104. | City Hall, 231 North Dakota Avenue, Sioux Falls, SD 57104. | May 3, 2024 | 460060
Minnehaha (FEMA Docket No.: B-2418) | Unincorporated areas of Minnehaha County (23-08-0268P). | Jean Bender, Chair, Minnehaha County Board of Commissioners, 415 North Dakota Avenue, Sioux Falls, SD 57104. | Minnehaha County Department of Planning and Zoning, 415 North Dakota Avenue, Sioux Falls, SD 57104. | May 3, 2024 | 460057
Texas:
Bexar (FEMA Docket No.: B-2424) | City of San Antonio (22-06-2403P). | The Honorable Ron Nirenberg, Mayor, City of San Antonio, P.O. Box 839966, San Antonio, TX 78283. | Transportation and Capital Improvements Department, Storm Water Division, 1901 South Alamo Street, 2nd Floor, San Antonio, TX 78204. | May 6, 2024 | 480045
Bexar (FEMA Docket No.: B-2424) | City of Selma (23-06-0582P). | The Honorable Tom Daly, Mayor, City of Selma, 9375 Corporate Drive, Selma, TX 78154. | Public Works Department, 9375 Corporate Drive, Selma, TX 78154. | May 6, 2024 | 480046
Bexar (FEMA Docket No.: B-2424) | City of Universal City (23-06-0582P). | The Honorable John Williams, Mayor, City of Universal City, 2150 Universal City Boulevard, Universal City, TX 78148. | Development Services Department, 2150 Universal City Boulevard, Universal City, TX 78148. | May 6, 2024 | 480049
Collin (FEMA Docket No.: B-2418) | Unincorporated areas of Collin County (23-06-1047P). | The Honorable Chris Hill, Collin County Judge, 2300 Bloomdale Road, Suite 4192, McKinney, TX 75071. | Collin County Engineering Department, 4690 Community Avenue, Suite 200, McKinney, TX 75071. | May 6, 2024 | 480130
Denton (FEMA Docket No.: B-2407) | Town of Providence Village (23-06-1251P). | The Honorable Linda Inman, Mayor, Town of Providence Village, 1755 Main Street, Providence Village, TX 76227. | Development Services Department, 1755 Main Street, Providence Village, TX 76227. | May 1, 2024 | 480803
Denton (FEMA Docket No.: B-2411) | Unincorporated areas of Denton County (23-06-1243P). | The Honorable Andy Eads, Denton County Judge, 1 Courthouse Drive, Suite 3100, Denton, TX 76208. | Denton County Development Services Department, 3900 Morse Street, Denton, TX 76208. | Apr. 24, 2024 | 480774
Denton (FEMA Docket No.: B-2407) | Unincorporated areas of Denton County (23-06-1599P). | The Honorable Andy Eads, Denton County Judge, 1 Courthouse Drive, Suite 3100, Denton, TX 76208. | Development Services Department, 3900 Morse Street, Denton, TX 76208. | May 6, 2024 | 480774
Hale (FEMA Docket No.: B-2418) | City of Plainview (23-06-0515P). | Jeffrey Snyder, City of Plainview Manager, 202 West 5th Street, Plainview, TX 79072. | City Hall, 202 West 5th Street, Plainview, TX 79072. | Apr. 29, 2024 | 480275
Hale (FEMA Docket No.: B-2418) | Unincorporated areas of Hale County (23-06-0515P). | The Honorable David Mull, Hale County Judge, 500 Broadway, Plainview, TX 79072. | Hale County Courthouse, 500 Broadway, Plainview, TX 79072. | Apr. 29, 2024 | 481223
Hunt (FEMA Docket No.: B-2418) | Unincorporated areas of Hunt County (23-06-2029P). | The Honorable Bobby W. Stovall, Hunt County Judge, 2507 Lee Street, 2nd Floor, Greenville, TX 75401. | Hunt County Courthouse, 2507 Lee Street, Greenville, TX 75401. | May 3, 2024 | 480363
Montgomery (FEMA Docket No.: B-2411) | City of Conroe (22-06-3014P). | The Honorable Jody Czajkoski, Mayor, City of Conroe, 300 West Davis Street, Conroe, TX 77301. | City Hall, 500 Metcalf Drive, Conroe, TX 77305. | Apr. 19, 2024 | 480484
Montgomery (FEMA Docket No.: B-2411) | Unincorporated areas of Montgomery County (22-06-3014P). | The Honorable Mark J. Keough, Montgomery County Judge, 501 North Thompson Street, Conroe, TX 77301. | Montgomery County Permitting Department, 501 North Thompson Street, Suite 100, Conroe, TX 77301. | Apr. 19, 2024 | 480483
Tarrant (FEMA Docket No.: B-2411) | City of Benbrook (23-06-1239P). | The Honorable Jason Ward, Mayor, City of Benbrook, 911 Winscott Road, Benbrook, TX 76126. | City Hall, 911 Winscott Road, Benbrook, TX 76126. | Apr. 22, 2024 | 480586
Tarrant (FEMA Docket No.: B-2411) | City of Fort Worth (23-06-1173P). | The Honorable Mattie Parker, Mayor, City of Fort Worth, 200 Texas Street, Fort Worth, TX 76102. | Department of Transportation and Public Works, Engineering Vault and Map Repository, 200 Texas Street, Fort Worth, TX 76102. | Apr. 22, 2024 | 480596
Tarrant (FEMA Docket No.: B-2418) | City of Fort Worth (23-06-1491P). | The Honorable Mattie Parker, Mayor, City of Fort Worth, 200 Texas Street, Fort Worth, TX 76102. | Department of Transportation and Public Works, Engineering Vault and Map Repository, 200 Texas Street, Fort Worth, TX 76102. | Apr. 29, 2024 | 480596
Tarrant (FEMA Docket No.: B-2411) | City of Lake Worth (23-06-1173P). | The Honorable Walter Bowen, Mayor, City of Lake Worth, 3805 Adam Grubb Street, Lake Worth, TX 76135. | City Hall, 3805 Adam Grubb Street, Lake Worth, TX 76135. | Apr. 22, 2024 | 480605
Tarrant (FEMA Docket No.: B-2411) | Town of Lakeside (23-06-1173P). | The Honorable Patrick Jacob, Mayor, Town of Lakeside, 9830 Confederate Park Road, Lakeside, TX 76108. | Town Hall, 9830 Confederate Park Road, Lakeside, TX 76108. | Apr. 22, 2024 | 480604
Tarrant (FEMA Docket No.: B-2411) | Unincorporated areas of Tarrant County (23-06-1173P). | The Honorable Tim O'Hare, Tarrant County Judge, 100 East Weatherford Street, Suite 501, Fort Worth, TX 76196. | Tarrant County Administration Building, 100 East Weatherford Street, Fort Worth, TX 76196. | Apr. 22, 2024 | 480582
Utah:
Washington (FEMA Docket No.: B-2401) | Town of Springdale (23-08-0323P). | Rick Wixom, Manager, Town of Springdale, 118 Lion Boulevard, Springdale, UT 84767. | Community Development Department, 118 Lion Boulevard, Springdale, UT 84767. | Apr. 18, 2024 | 490179
Weber (FEMA Docket No.: B-2411) | City of Ogden (23-08-0037P). | The Honorable Mike Caldwell, Mayor, City of Ogden, 2549 Washington Boulevard, Ogden, UT 84401. | City Hall, 2549 Washington Boulevard, Ogden, UT 84401. | Apr. 22, 2024 | 490189

[FR Doc. 2024-10762 Filed 5-15-24; 8:45 am]

BILLING CODE 9110-12-P